DEPARTMENT OF TRANSPORTATION

Federal Highway Administration

Buy America Waiver Notification

AGENCY: Federal Highway Administration (FHWA), DOT.

ACTION: Notice.

SUMMARY: This notice provides information regarding the FHWA's finding that a Buy America waiver is appropriate for use of non-domestic 22 mm Industrial dock steel chain, 400 ft, in construction of Federal-aid project # BH-7826 (210) in Maine and the use of non-domestic U69 guard bars in construction of American Recovery and Reinvestment Act (Pub. L. 111-5) (Recovery Act) project # RR-1654 in Portland, Oregon.

DATES: The effective date of the waiver is July 1, 2010.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application of such requirements would be inconsistent with the public interest or when satisfactory quality domestic steel and iron products are not sufficiently available. This notice provides information regarding the FHWA's finding that a Buy America waiver is appropriate for the use of non-domestic 22 mm Industrial dock steel chain, 400 ft, in Maine, and U69 guard bars in Oregon.

In accordance with the Division I, section 126 of the “Omnibus Appropriations Act, 2009” (Pub. L. 111-8), the FHWA published a notice of intent to issue a waiver for non-domestic 22mm Industrial deck fender chain, 400 ft. (http://www.fhwa.dot.gov/construction/contracts/waivers.cfm?id=40) on November 5. The FHWA received no comments in response to this notice which suggested that the 22 mm Industrial dock fender chain, 400 ft is available domestically. On November 13, FHWA published a notice of intent to issue a waiver for non-domestic turnouts (Manganese turnout castings, U69 guard bars, LV braces), and Weld kits (http://www.fhwa.dot.gov/construction/contracts/waivers.cfm?id=41). The FHWA received four comments which confirmed domestic availability of Manganese castings, LV braces, and Weld kits. During the 15-day comment periods, the FHWA conducted additional nationwide review to locate potential domestic manufacturers for the 22 mm Industrial dock fender steel chain, 400 ft, and U69 guard bars. Based on all the information available to the agency, the FHWA concludes that there are no domestic manufacturers for the 22 mm Industrial dock fender steel chain and U69 guard bars. Thus, the FHWA concludes that a Buy America waiver is appropriate for 22 mm Industrial dock fender steel chain and U69 guard bars, but not appropriate for Manganese turnout castings, LV braces, and Weld kits by 23 CFR 635.410(c)(1).

In accordance with the provisions of section 117 of the SAFETEA-LU Technical Corrections Act of 2008 (Pub. L. 110-244, 122 Stat.1572), the FHWA is providing this notice as its finding that a waiver of Buy America requirements is appropriate for the 22 mm Industrial dock fender steel chain and U69 guard bars. The FHWA invites public comment on this finding for an additional 15 days following the effective date of the finding. Comments may be submitted to the FHWA's Web sites via the links provided to the Oregon and Maine waiver pages noted above.

Authority: 23 U.S.C. 313; Pub. L. 110-161, 23 CFR 635.410.

Issued on: June 23, 2010.
Victor M. Mendez,
Administrator.

[FR Doc. 2010-15846 Filed 6-29-10; 8:45 am]

BILLING CODE 4910-22-P